DEPARTMENT OF AGRICULTURE

Forest Service

Kemmerer Ranger District; Wyoming; Kemmerer Grazing and Vegetation Management Project; Withdrawal of Notice of Intent To Prepare an Environmental Impact Statement

AGENCY: Forest Service, USDA.

ACTION: Notice; withdrawal.

SUMMARY: The Forest Service is withdrawing its notice of intent (NOI) to prepare an environmental impact statement (EIS) for the Kemmerer Grazing and Vegetation Management Project on the Kemmerer Ranger District of the Bridger-Teton National Forest.

FOR FURTHER INFORMATION CONTACT: Questions concerning this notice should be directed to Kemmerer District Ranger Adriene Holcomb, Adriene.Holcomb@usda.gov or 307-203-5514.

Persons who use telecommunication devices for the hearing impaired (TDD) may call the Federal Information Relay Service (FIRS) at 1-800-877-8339 between 8 a.m. and 8 p.m., Eastern Time, Monday through Friday.

SUPPLEMENTARY INFORMATION: The original NOI was published in the Federal Register on November 17, 2008 (73 FR 67835). The Forest Service decision to withdraw the NOI is based on several factors, including regional and national budget allocations and prioritization of agency resources.

Allen Rowley,
Associate Deputy Chief, National Forest System.

[FR Doc. 2020-16305 Filed 7-27-20; 8:45 am]

BILLING CODE 3411-15-P